DEPARTMENT OF COMMERCE

International Trade Administration

[A-570-852]

Creatine Monohydrate from the People's Republic of China: Final Results of Changed Circumstances Review

AGENCY: Import Administration, International Trade Administration, Department of Commerce.

ACTION: Notice of Final Results of Changed Circumstances Antidumping Duty Administrative Review.

SUMMARY: On February 28, 2003, the Department of Commerce published a notice of initiation and preliminary results of its changed circumstances review in creatine monohydrate from the People's Republic of China examining whether Suzhou Sanjian Nutrient and Health Products Co., Ltd. is the successor-in-interest of Suzhou Sanjian Fine Chemical Co. Ltd. We gave interested parties an opportunity to comment on the preliminary results of review but received no comments. The final results do not differ from the preliminary results of review, in which we found that Suzhou Sanjian Nutrient and Health Products Co., Ltd. is the successor-in-interest of Suzhou Sanjian Fine Chemical Co. Ltd.

EFFECTIVE DATE: April 18, 2003.

FOR FURTHER INFORMATION CONTACT: Blanche Ziv or Julie Santoboni, Import Administration, International Trade Administration, U.S. Department of Commerce, 14th Street and Constitution Avenue, NW, Washington, DC 20230; telephone (202) 482-4207 and (202) 482-4194, respectively.

SUPPLEMENTARY INFORMATION:

Background:

On February 28, 2003, in accordance with Section 751(b) of the Act and 19 CFR 351.216 and 351.221(c)(3), the Department published its preliminary results in the Federal Register, preliminarily finding Suzhou Sanjian Nutrient and Health Products Co., Ltd. (“Suzhou Health Products”) to be the successor-in-in terest to Suzhou Sanjian Fine Chemical Co. Ltd. (“Suzhou Chemical”). (See Creatine Monohydrate from the People's Republic of China; Initiation and Preliminary Results of Antidumping Duty Changed Circumstances Review, 68 FR 9635 (“Preliminary Results”)). We invited interested parties to comment on these findings. No comments were received.

Scope of the Review

Imports covered by this review are creatine monohydrate, which is commonly referred to as “creatine.” The chemical name for creatine monohydrate is N-(aminoiminomethyl)-N-methylgycine monohydrate. The Chemical Abstracts Service (“CAS”) registry number for this product is 6020-87-7. Creatine monohydrate in its pure form is a white, tasteless, odorless powder, that is a naturally occurring metabolite found in muscle tissue. Creatine monohydrate is provided for in subheading 2925.20.90 of the Harmonized Tariff Schedule of the United States (“HTSUS”). Although the HTSUS subheading and the CAS registry number are provided for convenience and customs purposes, the written description of the merchandise under review is dispositive.

Final Results of Review

Because we received no comments on the preliminary results, for the reasons stated in the Preliminary Results and based on the facts on the record, we find Suzhou Health Products to be the successor-in-interest to Suzhou Chemical for antidumping duty cash deposit purposes. In order to make this determination, we examined the management structure of Suzhou Chemical, including, but not limited to, copies of business licenses, financial statements, sales documents and organizational charts. Since the record shows that Suzhou Health Products maintained the same senior management, organizational structure, production facilities, supplier relationships and customers, among other things, we determine that Suzhou Health Products is the successor-in-interest to Suzhou Chemical.

Suzhou Health Products will be assigned the same antidumping duty cash-deposit rate (i.e., a 50.32 percent antidumping duty cash-deposit rate) with respect to the subject merchandise as Suzhou Chemical, its predecessor company. This cash deposit requirement will be effective upon publication of this notice of final results of changed circumstances review for all shipments of the subject merchandise entered, or withdrawn from warehouse, for consumption on or after the publication date. This cash deposit rate shall remain in effect until publication of the final results of the next administrative review in which Suzhou Health Products participates.

This determination is issued and published in accordance with sections 751(b)(1) and 777(i)(1) of the Act.

Dated: April 14, 2003.
Joseph A. Spetrini,
Acting Assistant Secretary for Import Administration.

[FR Doc. 03-9637 Filed 4-17-03; 8:45 am]

BILLING CODE 3510-DS-S